Title 3—

The President

Proclamation 8022 of May 19, 2006

World Trade Week, 2006

By the President of the United States of America

A Proclamation

Free and fair trade is a powerful engine for growth and job creation in the United States and in countries throughout the world. World Trade Week is an opportunity to celebrate the benefits of trade for people everywhere.

America is a great force for prosperity, and our country's economic and national security interests are advanced through strong economic ties with our friends and allies. Since 2001, my Administration has concluded or implemented free trade agreements with 15 countries. We are working toward agreements with 11 additional countries, and we will continue to pursue further opportunities.

Last August, I was pleased to sign legislation implementing the Dominican Republic-Central America-United States Free Trade Agreement (CAFTA-DR). CAFTA-DR will reduce tariffs on American goods and expand export opportunities for American businesses. When the rules are fair, American people and businesses can compete with anyone in the world. CAFTA-DR will also advance our commitment to democracy and prosperity for our neighbors.

Studies have shown that the elimination of global trade barriers could help lift hundreds of millions of the world's poor out of poverty and boost economic growth around the world. An important opportunity to deliver the full benefits of trade to people around the world is the Doha Round of trade negotiations at the World Trade Organization. An ambitious Doha agreement could bring benefits to all nations, especially the developing world, and my Administration is working for a successful conclusion to these negotiations.

During World Trade Week and throughout the year, the United States remains committed to increasing free and fair trade and to improving the standard of living for our citizens. By working with our friends and allies, we will continue to help build a world that lives in liberty, trades in freedom, and grows in prosperity.

NOW, THEREFORE, I, GEORGE W. BUSH, President of the United States of America, by virtue of the authority vested in me by the Constitution and laws of the United States, do hereby proclaim May 21 through May 27, 2006, as World Trade Week. I encourage all Americans to observe this week with appropriate events, trade shows, and educational programs that celebrate the benefits of trade to our Nation and people around the world.

IN WITNESS WHEREOF, I have hereunto set my hand this nineteenth day of May, in the year of our Lord two thousand six, and of the Independence of the United States of America the two hundred and thirtieth.

B

[FR Doc. 06-4871

Filed 5-23-06; 8:47 am]

Billing code 3195-01-P